DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available in OFAC's website (https://www.treasury.gov/ofac).

Notice of OFAC Action(s)

On December 12, 2019 OFAC determined that the property and interests in property subject to U.S. jurisdiction of the following persons are blocked under the relevant sanctions authorities listed below.

Individual

1. ORTEGA MURILLO, Rafael Antonio (a.k.a. “ORTEGA, Payo”), KM 13 Carretera Masaya, Managua, Nicaragua; DOB 09 Dec 1968; POB Managua, Nicaragua; nationality Nicaragua; Gender Male; Passport A00000204 (Nicaragua) issued 06 Aug 2012 expires 06 Aug 2022; National ID No. 0010912680053D (Nicaragua) (individual) (Nicaragua) (individual) [NICARAGUA].

Designated pursuant to section 1(a)(iv)(B) of Executive Order 13851 of November 27, 2018, “Blocking Property of Certain Persons Contributing to the Situation in Nicaragua,” 83 FR 61505, 3 CFR, 2018 Comp., p. 884 (“E.O. 13851” or the “Order”), for having materially assisted, sponsored, or provided financial, material, or technological support for, or goods and services in support of, Rosario Maria Murillo De Ortega, a person whose property and interests in property are blocked pursuant to E.O. 13850.

Entities

1. INVERSIONES ZANZIBAR SOCIEDAD ANONIMA (a.k.a. INVERSIONES ZANZIBAR), De la Estatua Montoya 2 Cuadras Arriba ½ Cuadras al Sur, Managua, Nicaragua; RUC #J0310000146314 (Nicaragua) [NICARAGUA].

Designated pursuant to section 1(a)(v) of E.O. 13851 for being owned or controlled by, or having acted or purported to act for or on behalf of, directly or indirectly, Rafael Antonio Ortega Murillo, a person whose property and interests in property are blocked pursuant to E.O. 13851.

2. SERVICIO DE PROTECCION Y VIGILANCIA S.A. (a.k.a. “EL GOLIAT”), De Los Semaforos De Seminole, 3 Cuadras al Sur, 2 Cuadras Arriba, 1 Cuadra al Sur, Casa #326, Managua, Nicaragua; website www.elgoliat.com.ni/; Email Address ventas1@elgoliat.com.ni; alt. Email Address facturacion@elgoliat.com.ni; RUC #J0310000119627 (Nicaragua) [NICARAGUA].

Designated pursuant to section 1(a)(v) of E.O. 13851 for being owned or controlled by, or having acted or purported to act for or on behalf of, directly or indirectly, Rafael Antonio Ortega Murillo, a person whose property and interests in property are blocked pursuant to E.O. 13851.

3. DISTRIBUIDORA NICARAGUENSE DE PETROLEO, S.A. (a.k.a. DNP PETRONIC; a.k.a. DNP-PETRONIC; a.k.a. NICARAGUAN PETROLEUM DISTRIBUTOR; a.k.a. “DNP”; a.k.a. “DNP S.A.”), Ofiplaza El Retiro Edificio 8, Segundo Piso, Managua, Nicaragua; Rotonda El Gueguense 2, Managua, Nicaragua; website http://www.dnppetronic.com.ni; Email Address dnp@dnp.com.ni; RUC #J0310000005010 (Nicaragua) [NICARAGUA].

Designated pursuant to section 1(a)(v) of E.O. 13851 for being owned or controlled by, or having acted or purported to act for or on behalf of, directly or indirectly, Rosario Maria Murillo De Ortega and Rafael Antonio Ortega Murillo, persons whose property and interests in property are blocked pursuant to E.O. 13851.

Dated: December 12, 2019.
Andrea Gacki,
Director, Office of Foreign Assets Control.

[FR Doc. 2019-27233 Filed 12-17-19; 8:45 am]

BILLING CODE 4810-AL-P